ENVIRONMENTAL PROTECTION AGENCY

[FRL-9271-1]

Science Advisory Board Staff Office; Notification of a Public Teleconference of the Clean Air Scientific Advisory Committee (CASAC); Ozone Review Panel for the Reconsideration of the 2008 National Ambient Air Quality Standard (NAAQS)

AGENCY: Environmental Protection Agency (EPA).

ACTION: Notice.

SUMMARY: The Environmental Protection Agency (EPA or Agency) Science Advisory Board (SAB) Staff Office announces a public teleconference of the Clean Air Scientific Advisory Committee (CASAC) Ozone Review Panel for the Reconsideration of the 2008 National Ambient Air Quality Standard (NAAQS) to continue the discussion of their advice regarding EPA's reconsideration of the 2008 Ozone NAAQS.

DATES: The CASAC teleconference will be held on March 23, 2011 from 9:30 a.m. to 1:30 p.m. (Eastern Time).

ADDRESSES: The teleconference will take place by telephone only.

FOR FURTHER INFORMATION CONTACT: Any member of the public who wants further information concerning the teleconferences may contact Dr. Holly Stallworth, Designated Federal Officer (DFO), EPA Science Advisory Board (1400R), U.S. Environmental Protection Agency, 1300 Pennsylvania Avenue, NW., Washington, DC 20004; via telephone/voice mail (202) 564-2073; fax (202) 565-2098; or e-mail at stallworth.holly@epa.gov. General information concerning the CASAC may be found on the EPA Web site at http://www.epa.gov/casac.

SUPPLEMENTARY INFORMATION:

Background: The CASAC was established pursuant to the under the Clean Air Act (CAA) Amendments of 1977, codified at 42 U.S.C. 7409D(d)(2), to provide advice, information, and recommendations to the Administrator on the scientific and technical aspects of issues related to the criteria for air quality standards, research related to air quality, sources of air pollution, and the strategies to attain and maintain air quality standards and to prevent significant deterioration of air quality. The CASAC is a Federal Advisory Committee chartered under the Federal Advisory Committee Act (FACA), 5 U.S.C., App. 2. Section 109(d)(1) of the CAA requires that the Agency periodically review and revise, as appropriate, the air quality criteria and the NAAQS for the six “criteria” air pollutants, including Ozone. As described in 75 FR 1381-1382, the CASAC Ozone Review Panel conducted scientific reviews of EPA's scientific assessments of the health and welfare effects of Ozone and other Photochemical Oxidants from 2005 through 2008. On September 16, 2009, EPA Administrator Lisa Jackson announced her decision to reconsider the March 12, 2008 primary and secondary Ozone NAAQS to ensure they are scientifically sound and protective of public health and the environment. EPA's Office of Air and Radiation requested the Ozone Review Panel that conducted the 2005-2008 review to provide comments on EPA's 2010 proposed Ozone standards.

This Panel (renamed “CASAC Ozone Review Panel for the Reconsideration of the 2008 NAAQS”) held a public teleconference on January 25, 2010. A letter dated February 29, 2010 (EPA-CASAC 10-007), posted at http://yosemite.epa.gov/sab/sabproduct.nsf/610BB57CFAC8A41C852576CF007076BD/$File/EPA-CASAC-10-007-unsigned.pdf, was transmitted to the EPA Administrator providing comment on the Administrator's proposed Ozone NAAQS.

As previously announced (76 FR 4661-4662), the CASAC Panel has been asked to discuss its responses to additional charge questions regarding the Ozone reconsideration at the teleconferences on February 18, 2011 and March 3, 2011. The purpose of the March 23, 2011 teleconference is for the Panel to continue its discussion of their advice on EPA's reconsideration of the 2008 Ozone NAAQS.

Technical Contacts: Any technical questions concerning EPA's charge questions may be directed to Susan Stone at stone.susan@epa.gov or (919) 541-1146.

Availability of Meeting Materials: The agenda, charge questions, public comments and any other meeting materials may be found posted at http://www.epa.gov/casac through the calendar link on the blue navigation bar.

Procedures for Providing Public Input: Public comment for consideration by EPA's Federal advisory committees and panels has a different purpose from public comment provided to EPA program offices. Therefore, the process for submitting comments to a Federal advisory committee is different from the process used to submit comments to an EPA program office. Federal advisory committees and panels, including scientific advisory committees, provide independent advice to EPA. Members of the public can submit comments for a Federal advisory committee to consider as it develops advice for EPA. They should send their comments directly to the Designated Federal Officer for the relevant advisory committee. Written statements for the meeting should be received in the SAB Staff Office by March 14, 2011 so that the information may be made available to the Panel for its consideration prior to this meeting. Written statements should be supplied to the DFO via e-mail, preferably as an Adobe Acrobat PDF file.

Accessibility: For information on access or services for individuals with disabilities, please contact Dr. Stallworth at the phone number or e-mail address noted above, preferably at least ten days prior to the meeting, to give EPA as much time as possible to process your request.

Dated: February 22, 2011.
Anthony Maciorowski,
Deputy Director, EPA Science Advisory Board Staff Office.

[FR Doc. 2011-4377 Filed 2-25-11; 8:45 am]

BILLING CODE 6560-50-P